ENVIRONMENTAL PROTECTION AGENCY

[OAR-2004-0082, FRL-7841-7]

Agency Information Collection Activities; Submission to OMB for Review and Approval; Comment Request; Reporting and Recordkeeping Requirements Under EPA's Natural Gas STAR Program (Renewal), ICR Number 1736.04, OMB Number 2060-0328

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on November 30, 2004. Under OMB regulations, the Agency may continue to conduct or sponsor the collection of information while this submission is pending at OMB. This ICR describes the nature of the information collection and its estimated burden and cost.

DATES: Additional comments may be submitted on or before December 27, 2004.

ADDRESSES: Submit your comments, referencing docket ID number OAR-2004-0082, to EPA online using EDOCKET (our preferred method), by E-mail to a-and-r-Docket@epa.gov, or by mail to: Environmental Protection Agency, EPA Docket Center (EPA/DC), Air and Radiation Docket and Information Center, MC 6102T, 1200 Pennsylvania Avenue, NW., Washington, DC 20460.

FOR FURTHER INFORMATION CONTACT: Kevin Tingley, Natural Gas STAR Program, U.S. Environmental Protection Agency, Mail Code 6207J, 1200 Pennsylvania Avenue NW., Washington, DC 20460; telephone number: (202) 343-9086; fax number: (202) 343-2208; e-mail address: tingley.kevin@epa.gov.

SUPPLEMENTARY INFORMATION: EPA has submitted the following ICR to OMB for review and approval according to the procedures prescribed in 5 CFR 1320.12. On June 29, 2004 (69 FR 38893), EPA sought comments on this ICR pursuant to 5 CFR 1320.8(d). EPA received no comments.

EPA has established a public docket for this ICR under Docket ID No. OAR-2004-0082, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Reporting and Recordkeeping Requirements Under EPA's Natural Gas STAR Program (Renewal).

Abstract: Natural Gas STAR is an EPA-sponsored, voluntary program that encourages natural gas companies to adopt cost effective methods for reducing methane emissions. Natural Gas STAR Partners agree to implement cost-effective Best Management Practices, which will save participants money and improve environmental quality. EPA needs to collect information to establish program participation and to obtain general information on new Natural Gas STAR Partners. EPA also uses the information collection to evaluate a Partner's progress and performance, assess overall program results, and develop technical guidance documents for the benefit of the industry. Information collection is accomplished through the use of an annual reporting process that allows companies to report their accomplishments in either a traditional hard-copy format or electronically. Participation in Natural Gas STAR is voluntary. Natural Gas STAR Partners may designate information submitted under this ICR as confidential business information. EPA will treat all such information as confidential business information and will not make the company or agency-specific information collected under this ICR available to the general public.

An agency may not conduct or sponsor, and a person is not required to respond to, a collection of information unless it displays a currently valid OMB control number. The OMB control numbers for EPA's regulations are listed in 40 CFR part 9 and 48 CFR chapter 15, and are identified on the form and/or instrument, if applicable.

OMB has requested that EPA determine the extent to which reductions reported to the Natural Gas STAR Program would have occurred in the absence of the program. EPA has performed a sensitivity analysis in order to address this issue. Details are provided in the Supporting Statement for this notice.

Burden Statement: The annual public reporting and recordkeeping burden for this collection of information is estimated to average 44 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Natural Gas Companies.

Estimated Number of Respondents: 108.

Frequency of Response: Varies.

Estimated Total Annual Hour Burden: 4,705.

Estimated Total Annual Cost: $402,162, which includes $0 annualized capital/startup costs, $21 annual O&M costs, and $402,141 annual labor costs.

Changes in the Estimates: There is an increase of 646 hours in the total estimated burden currently identified in the OMB Inventory of Approved ICR Burdens. This increase is due to an increased number of program participants, but is tempered by a reduction in the amount of time spent filling out and submitting the annual report due to the introduction of on-line reporting in 2002.

Dated: November 17, 2004.
Oscar Morales,
Director, Collection Strategies Division.

[FR Doc. 04-26079 Filed 11-23-04; 8:45 am]

BILLING CODE 6560-50-P